DEPARTMENT OF ENERGY

Federal Energy Regulatory Commission

[Docket No. PF05-10-000]

Northern Star Natural Gas LLC; Notice of Intent To Prepare an Environmental Impact Statement for the Bradwood Landing LNG Project, Request for Comments on Environmental Issues, and Notice of a Joint Public Meeting, and Site Visit

September 13, 2005.

The Federal Energy Regulatory Commission (FERC or Commission) and the U.S. Department of Homeland Security, U.S. Coast Guard (Coast Guard) are in the process of evaluating the Bradwood Landing Liquefied Natural Gas (LNG) Project planned by Northern Star Natural Gas LLC (Northern Star). The project would consist of an onshore LNG import and storage terminal, located about 38 miles up the Columbia River from its mouth, in Clatsop County, Oregon, and an approximately 34-mile-long natural gas sendout pipeline, extending from the terminal through Columbia County, Oregon, to an interconnection with the Williams Northwest Pipeline (Williams Northwest) system in Cowlitz County, Washington.

As a part of this evaluation, FERC staff will prepare an environmental impact statement (EIS) that will address the environmental impacts of the project and the Coast Guard will assess the safety and security of the project. As described below, the FERC and the Coast Guard will hold a joint public meeting to allow the public to provide input to these assessments.

The Commission will use the EIS in its decision-making process to determine whether or not to authorize the project. This Notice of Intent (NOI) explains the scoping process we ¹ will use to gather information on the project from the public and interested agencies and summarizes the process that the Coast Guard will use. Your input will help identify the issues that need to be evaluated in the EIS and in the Coast Guard's safety and security assessment.

¹ “We,” “us,” and “our” refer to the environmental staff of the FERC's Office of Energy Projects.

The FERC will be the lead Federal agency in the preparation of an EIS that will satisfy the requirements of the National Environmental Policy Act (NEPA). The Coast Guard and the U.S. Army Corps of Engineers will serve as cooperating agencies during preparation of the EIS. In addition, we have invited the U.S. Department of Commerce, National Oceanic and Atmospheric Administration, National Marine Fisheries Service; the U.S. Environmental Protection Agency; the U.S. Department of the Interior, Fish and Wildlife Service; the Oregon Department of Energy; and the Washington Department of Ecology to serve as cooperating agencies in preparation of the EIS.

Comments on the project may be submitted in written form or verbally. Further details on how to submit written comments are provided in the Public Participation section of this NOI. In lieu of sending written comments, we invite you to attend the public scoping meeting scheduled as follows:

Thursday, September 29, 2005, 7 p.m. (PST), Knappa High School, 41535 Old Highway 30, Astoria, OR 97102, 503-458-6166.

The public scoping meeting listed above will be combined with the Coast Guard's public meetings regarding the safety and security of the project. At the meeting, the Coast Guard will discuss: (1) the waterway safety assessment that it will conduct to determine whether or not the waterway can safely accommodate the LNG carrier traffic and operation of the planned LNG marine terminal; and (2) the security assessment it will conduct in accordance with the requirements of the Maritime Transportation Security Act. The Coast Guard will issue a separate meeting notice for the safety and security aspects of the project.

This NOI is being sent to Federal, state, and local government agencies; elected officials; affected landowners; environmental and public interest groups; Indian tribes and regional Native American organizations; commentors and other interested parties; and local libraries and newspapers. We encourage government representatives to notify their constituents of this planned project and encourage them to comment on their areas of concern.

Site Visit

Also, on Thursday, September 29, 2005, starting at 9 a.m., we will be conducting a site visit to view selected points along the proposed pipeline route, and the location of the LNG import terminal. Anyone interested in participating in the site visit should meet at the parking lot for the Cowlitz County Public Utilities District Building, 961 12th Avenue, Longview, Washington 98632; (telephone: 360-423-2210). Participants must provide their own transportation. For additional information, please contact the Commission's Office of External Affairs at 1-866-208-FERC (3372).

Summary of the Planned Project

Northern Star proposes to construct and operate an LNG import terminal and storage facility, and associated natural gas sendout pipeline with a capacity of 1.0 billion cubic feet per day. More specifically, Northern Star's facilities would consist of:

• A marine LNG terminal, including a dredged turning basin and a single dock, capable of handling about 125 LNG tankers per year, ranging in size from 100,000 to 200,000 cubic meters (m³) per ship;

• Four 16-inch-diameter unloading arms on the dock, with an unloading capacity rate of 12,000 m³ of LNG per hour, and 6-inch-diameter and 30-inch-diameter unloading lines to transfer LNG from the dock to the storage tanks;

• Two insulated LNG storage tanks, each with a capacity of 160,000 m³;

• Boil-off gas management system, and sendout pumps;

• Ambient air vaporizers to convert LNG into natural gas;

• Electric substation and distribution lines and emergency diesel-fueled generator at the terminal;

• Ancillary terminal facilities, including control room, maintenance shop, warehouse, office, security, and safety systems;

• Measurement controls and natural gas metering facilities;

• A ca. 34-mile-long, 30 and 36-inch-diameter natural gas sendout pipeline extending from the LNG terminal to the interconnection with Williams Northwest;

• Delivery points at the Georgia-Pacific paper mill at Wauna, Oregon, and the Portland General Electric (PGE) Beaver power plant at Port Westward, Oregon;

• Interconnections with the Northwest Natural intrastate pipeline adjacent to the PGE Beaver delivery point, and with Williams Northwest; and

• A pig launcher at the LNG terminal, pigging facilities along the pipeline at transitions between 30-inch-diameter and 36-inch-diameter pipe sizes; and a pig receiver at the eastern end of the pipeline at its interconnection with Williams Northwest.

A location map depicting Northern Star's proposed facilities is attached to this NOI as Appendix 1.²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

The NEPA requires the Commission to take into account the environmental impacts that could result from an action when it considers whether or not an LNG import terminal or an interstate natural gas pipeline should be approved. The FERC will use the EIS to consider the environmental impacts that could result if it issues project authorizations to Northern Star under Sections 3 and 7 of the Natural Gas Act. The NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, maintenance, and abandonment of the proposed project under these general headings:

• Geology and soils.

• Water resources.

• Aquatic resources.

• Vegetation and wildlife.

• Threatened and endangered species.

• Land use, recreation, and visual resources.

• Cultural resources.

• Socioeconomics.

• Marine transportation.

• Air quality and noise.

• Reliability and safety.

• Cumulative impacts.

In the EIS, we will also evaluate possible alternatives to the proposed project or portions of the project, and make recommendations on how to lessen or avoid impacts on affected resources.

Our independent analysis of the issues will be included in a draft EIS. The draft EIS will be mailed to Federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its pre-filing process. The purpose of the pre-filing process is to encourage early involvement of interested stakeholders and to identify and resolve issues before an application is filed with the FERC. In addition, the Coast Guard, which would be responsible for reviewing the safety and security aspects of the planned project and regulating safety and security if the project is approved, has initiated its review of the project as well.

With this NOI, we are asking Federal, state, and local agencies with jurisdiction and/or special expertise with respect to environmental issues, in addition to those agencies that have already agreed to serve as cooperating agencies (as noted above), to formally cooperate with us in the preparation of the EIS. These agencies may choose to participate once they have evaluated the proposal relative to their responsibilities. Additional agencies that would like to request cooperating agency status should follow the instructions for filing comments provided under the Public Participation section of this NOI.

Currently Identified Environmental Issues

We have already identified issues that we think deserve attention based on comment letters received during our pre-filing process, interagency meetings, a preliminary review of the project area, and the planned facility information provided by Northern Star. This preliminary list of issues, which is presented below, may be revised based on your comments and our continuing analyses.

• Impact of LNG ship traffic on other river users, including recreational boaters and fishing.

• Safety issues relating to LNG ship traffic, including transit over the Columbia River bar.

• Potential impacts on the residents of Puget Island, including safety issues at the import and storage facility, noise, air quality, and visual resources.

• Potential impacts of dredging the LNG marine terminal turning basin on Clifton Channel and related fishery.

• Potential geological hazards at the Bradwood Landing terminal, including seismic issues and landslides.

• Impact of the Bradwood Landing terminal on the railroad through this site.

• Project impacts on threatened and endangered species and nearby National Wildlife Refuges.

• Project impacts on cultural resources.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of OEP/DG2E/Gas Branch 3, PJ-11.3.

• Reference Docket No. PF05-10-000 on the original and both copies.

• Mail your comments so that they will be received in Washington, DC on or before October 17, 2005.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

The public scoping meeting (date, time, and location listed above) is designed to provide another opportunity to offer comments on the proposed project. Interested groups and individuals are encouraged to attend the meeting and to present comments on the environmental issues that they believe should be addressed in the EIS. A transcript of the meeting will be generated so that your comments will be accurately recorded.

Once Northern Star formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to remain on the environmental mailing list, please return the attached Mailing List Retention Form (Appendix 2 of this NOI). Also, indicate on the form your preference for receiving a paper or electronic version of the EIS. If you do not return this form, we will remove your name from our mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF05-10) in the “Docket Number” field. Be sure you have selected an appropriate date range. For assistance with eLibrary, the eLibrary helpline can be reached at 1-866-208-3676, TTY (202) 502-8659, or by e-mail at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Northern Star has established an Internet Web site for this project at http://www.Northernstar-NG.com. The Web site includes a project overview, status, potential impacts and mitigation, and answers to frequently asked questions. You can also request additional information by calling Northern Star directly at 503-914-1905 or 503-325-3335.

Magalie R. Salas,
Secretary.

[FR Doc. E5-5127 Filed 9-19-05; 8:45 am]

BILLING CODE 6717-01-P